TENNESSEE VALLEY AUTHORITY

Meeting of the Regional Resource Stewardship Council

AGENCY: Tennessee Valley Authority (TVA).

ACTION: Notice of meeting.

SUMMARY: The TVA Regional Resource Stewardship Council (RRSC) will hold a meeting on Tuesday, February 25, and Wednesday, February 26, 2014, to consider TVA's Natural Resource activities and partnerships.

The RRSC was established to advise TVA on its natural resource stewardship activities. Notice of this meeting is given under the Federal Advisory Committee Act (FACA), 5 U.S.C. App. 2.

The meeting agenda includes the following:

1. Introductions

2. Updates regarding TVA's Stewardship Strategy, TVA's Natural Resource Plan implementation, and the Trout Hatchery Sustainable Funding project

3. Discussion around TVA's Natural Resources Partnership efforts

4. Public Comments

5. Council Discussion and Advice

The RRSC will hear opinions and views of citizens by providing a public comment session starting at 9:30 a.m., EST, on Wednesday, February 26. Persons wishing to speak are requested to register at the door by 9:00 a.m. on Wednesday, February 26 and will be called on during the public comment period. Handout materials should be limited to one printed page. Written comments are also invited and may be mailed to the Regional Resource Stewardship Council, Tennessee Valley Authority, 400 West Summit Hill Drive, WT-11 B, Knoxville, Tennessee 37902.

DATES: The public meeting will be held on Tuesday, February 25, from 8:00 a.m. to noon, and Wednesday, February 26, from 8:00 a.m. to 11:45 a.m. EST.

ADDRESSES: The meeting will be held at the TVA headquarters, 400 West Summit Hill Drive, Knoxville, TN 37902 and will be open to the public. Anyone needing special access or accommodations should let the contact below know at least a week in advance.

FOR FURTHER INFORMATION CONTACT: Beth Keel, 400 West Summit Hill Drive, WT-11 B, Knoxville, Tennessee 37902, (865) 632-6113.

Dated: January 30, 2014.
Joseph J. Hoagland,
Vice President, Stakeholder Relations, Tennessee Valley Authority.

[FR Doc. 2014-02388 Filed 2-4-14; 8:45 am]

BILLING CODE 8120-08-P